FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011914-002.

Title: HLAG/CCNI Med-Gulf Space Charter Agreement.

Parties: Hapag-Lloyd AG and Compania Chilena de Navegacion Interoceanica.

Filing Party: Wayne R. Rohde, Esq.; Sher & Blackwell LLP; 1850 M Street, NW.; Suite 900; Washington, DC 20036.

Synopsis: The agreement would reduce the space being chartered to CCNI, extend the period for notices of withdrawal, and update Hapag-Lloyd's corporate name.

Agreement No.: 012036.

Title: Maersk Line/MSC TP5 Space Charter Agreement.

Parties: A.P. Moeller-Maersk A/S and Mediterranean Shipping Company.

Filing Party: Wayne R. Rohde, Esq.; Sher & Blackwell; 1850 M Street, NW.; Suite 900; Washington, DC 20036.

Synopsis: The agreement authorizes Maersk to charter space to MSC between South Korea, Japan, and California ports.

Agreement No.: 012037.

Title: Maersk Line/CMA CGM TA3 Space Charter Agreement.

Parties: A.P. Moeller-Maersk A/S and CMA CGM S.A.

Filing Party: Wayne R. Rohde, Esq.; Sher & Blackwell; 1850 M Street, NW.; Suite 900; Washington, DC 20036.

Synopsis: The agreement authorizes Maersk to charter space to CMA in the trade between U.S. Atlantic Coast ports and ports in France, Germany, Netherlands, and the United Kingdom.

Agreement No.: 201180.

Title: SSA Terminal (Seattle) Cooperative Working Agreement.

Parties: SSA Terminals (Seattle), LLC; SSA Terminals, LLC; Matson Seattle, LLC; SSA Containers, Inc.; SSA Seattle, LLC; China Shipping Terminals (USA), LLC.

Filing Party: Tara L. Leiter, Esq.; Blank Rome LLP; 600 New Hampshire Avenue, NW.; Washington, DC 20037.

Synopsis: The agreement would authorize the parties to establish SSA Terminals (Seattle) and to make and implement agreements for marine terminal operations, container stevedoring, and any related services at the Port of Seattle, Washington.

Dated: April 4, 2008.
By Order of the Federal Maritime Commission.
Karen V. Gregory,
Assistant Secretary.

[FR Doc. E8-7488 Filed 4-8-08; 8:45 am]

BILLING CODE 6730-01-P